COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List services to be furnished by nonprofit agencies employing persons who are blind or have other severe disabilities, and deletes from the Procurement List products previously furnished by such agencies.

DATES: Effective Date: 12/21/2008.

ADDRESSES: Committee for Purchase From People Who Are Blind or Severely Disabled, Jefferson Plaza 2, Suite 10800, 1421 Jefferson Davis Highway, Arlington, Virginia, 22202-3259.

FOR FURTHER INFORMATION (OR TO SUBMIT COMMENTS) CONTACT: Patricia Briscoe, Telephone: (703) 603-7740, Fax: (703) 603-0655, or e-mail CMTEFedReg@AbilityOne.gov.

SUPPLEMENTARY INFORMATION:

Additions

On 9/19/2008 and 10/03/2008, the Committee for Purchase From People Who Are Blind or Severely Disabled published notice (73 FR 183, page 54366 and 73 FR 193, page 57590 respectively) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Materials Coordinator/Supplies Technician Warehouse located at Federal Highway Administration Bldg., Warehouse, Vancouver, WA.

NPA: Portland Habilitation Center, Inc., Portland, OR.

Contracting Activity: Department of Transportation.

Service Type/Location: IRS Document Destruction, Carmel, IN IRS Office, Carmel, IN, 12900 North Meridian, Carmel, IN.

Service Type/Location: IRS Document Destruction, Greenwood, IN IRS Office, Greenwood, IN, 1111 South Park Drive, Greenwood, IN.

NPA: Shares Inc., Shelbyville, IN.

Contracting Activity: Internal Revenue Service, Dept of Treasury.

Deletions

On 9/12/2008 and 9/19/2008, the Committee for Purchase From People Who Are Blind or Severely Disabled published notice (73 FR 178, page 52948 and 73 FR 183, page 54366 respectively) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Tape, Electronic Data

NSN: 7045-01-391-0947—Tape, Electronic Data Processing.

NPA: North Central Sight Services, Inc., Williamsport, PA.

Contracting Activity: Defense Supply Center Philadelphia, Philadelphia, PA.

Tape, Electronic Data Processing

NSN: 7045-01-354-3517—Tape, Electronic Data Processing.

NPA: North Central Sight Services, Inc., Williamsport, PA.

Contracting Activity: Defense Supply Center Philadelphia, Philadelphia, PA.

CRT and Keyboard Cleaner

NSN: 7045-01-247-6020—CRT and Keyboard Cleaner.

NPA: North Central Sight Services, Inc., Williamsport, PA.

Contracting Activity: Defense Supply Center Philadelphia, Philadelphia, PA.

Data Cartridge, Travan

NSN: 7045-01-438-6297—Data Cartridge, Travan.

NPA: North Central Sight Services, Inc., Williamsport, PA.

Contracting Activity: Defense Supply Center Philadelphia, Philadelphia, PA.

Tray, Repositional Note Pad

NSN: 7520-01-166-0878—Tray, Repositional Note Pad.

NPA: L.C. Industries For The Blind, Inc., Durham, NC.

Contracting Activity: GSA/FSS Ofc Sup Ctr—Paper Products, New York, NY.

Patricia Briscoe,
Lead, Pricing and Information Management.

[FR Doc. E8-27650 Filed 11-20-08; 8:45 am]

BILLING CODE 6353-01-P